DEPARTMENT OF JUSTICE

Office for Victims of Crime

[OJP(OVC)-1356C]

Notice of Solicitation for Training and Technical Assistance for Services for Trafficking Victims; Correction

AGENCY: Office for Victims of Crime, Office of Justice Programs, Justice.

ACTION: Correction to notice of solicitation.

SUMMARY: This document provides the corrected information regarding when submissions are due for the Training and Technical Assistance for Services for Trafficking Victims solicitation, which was first published in the Federal Register on June 17, 2002 at 67 FR 41272.

FOR FURTHER INFORMATION CONTACT: Michelle Avery Weston, Program Specialist (telephone 202-514-5084 or e-mail averym@ojp.usdoj.gov.

DATES: Applications for competitive programs must be received (not postmarked) at the OVC Training and Technical Assistance Center located at 10530 Rosehaven Street, Suite 400, Fairfax, Virginia 22030 on Monday, July 29, 2002, no later than 5:30 eastern standard time. OVC will not grant extensions of the due date.

Dated: June 17, 2002.
John W. Gillis,
Director, Office for Victims of Crime.

[FR Doc. 02-15664 Filed 6-20-02; 8:45 am]

BILLING CODE 4410-18-P